DEPARTMENT OF HEALTH AND HUMAN SERVICES

Health Resources and Services Administration

National Advisory Council on Nurse Education and Practice; Notice of Meeting

In accordance with section 10(a)(2) of the Federal Advisory Committee Act (Public Law 92-463), notice is hereby given of the following meeting:

Name: National Advisory Council on Nurse Education and Practice (NACNEP).

Dates and Times: November 3, 2004, 8:30 a.m.-5 p.m.; November 4, 2004, 8:30 a.m.-5 p.m.; November 5, 2004, 8:30 a.m.-3 p.m.

Place: The St. Regis Hotel, 923 16th Street, NW., Washington, DC 20006.

Status: The meeting will be open to the public.

Agenda: Agency and Bureau administrative updates will be provided. The purpose of the meeting is to continue the April 2004 meeting focusing on geriatrics with implications for the nursing workforce, education and practice. While the April meeting focused on geriatric nursing workforce issues, geriatric nursing practice and education will be highlighted in this meeting. An opening presentation will provide a comprehensive view of patient safety in long-term care to be followed by a panel presentation of Health Resources and Services Administration, Bureau of Health Professions (BHPr), geriatric exemplars. Additional presentations will highlight culturally competent care from the consumers' perspective and geriatric nursing education addressing models, gaps and implications for the future. An update of BHPr's performance measures will also be presented. Work group discussions will take place on the first and second days to develop recommendations related to geriatrics. On the third day the Council will review a draft of the Fourth Report to the Secretary, HHS, and Congress and finalize all geriatrics recommendations from the April 2004 and the November 2004 meetings on nursing workforce, education and practice.

FOR FURTHER INFORMATION CONTACT: Anyone interested in obtaining a roster of members, minutes of the meeting, or other relevant information should write or contact Ms. Elaine G. Cohen, M.S., R.N., Executive Secretary, National Advisory Council on Nurse Education and Practice, Parklawn Building, Room 9-35, 5600 Fishers Lane, Rockville, Maryland 20857, telephone (301) 443-1405.

Dated: October 14, 2004.
Tina M. Cheatham,
Director, Division of Policy Review and Coordination.

[FR Doc. 04-23627 Filed 10-21-04; 8:45 am]

BILLING CODE 4165-15-P